DEPARTMENT OF JUSTICE

Notice of Lodging of Consent Decree Under the Clean Water Act

In accordance with Departmental Policy, 28 U.S.C. 50.7, notice is hereby given that on August 13, 2003, a proposed Consent Decree in United States, et al. v. Hoosac Water Quality District, et al., Civil Action No. 03-30197, was lodged with the United States District Court for the District of Massachusetts.

In this section, the United States sought injunctive relief and civil penalties against the Hoosac Water Quality District (“the District”), the City of North Adams, and the Town of Williamstown, (all located in Massachusetts), with respect to violations of the limitations imposed under a National Pollutant Discharge Elimination System (“NPDES”) permit issued to the District's Waste Water Treatment Plant pursuant to section 301(a) of the Clean Water Act (“CWA”), 33 U.S.C. 1311(a). Under the terms of the proposed settlement, the Settling Defendants will pay a civil penalty of $100,000 and Williamstown will undertake a Supplemental Environmental Project with a cost to Williamstown of at least $168,400. In addition, the Settling Defendants will undertake measures to reduce infiltration and inflow into the District and otherwise bring the Plant into compliance with the CWA.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Hoosac Water Quality District, D.J. Ref. 90-5-1-1-07289.

The Consent Decree may be examined at the Office of the United States Attorney, Western District of Massachusetts, 1550 Main Street, Springfield, Massachusetts, 0113, and at U.S. EPA Region I, One Congress Street, Boston, MA, 02114. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.25 (25 cents per page reproduction cost-no including the attached exhibits) payable to the U.S. Treasury.

Ronald Gluck,
Assistant Chief, Environmental Enforcement Section, Environment and Natural Resources Division.

[FR Doc. 03-21921 Filed 8-26-03; 8:45 am]

BILLING CODE 4410-15-M